Title 3—

The President

Proclamation 8044 of August 29, 2006

National Ovarian Cancer Awareness Month, 2006

By the President of the United States of America

A Proclamation

National Ovarian Cancer Awareness Month provides an opportunity to raise awareness of risk factors, prevention, and treatment of this deadly disease. Our Nation is committed to fighting ovarian cancer, finding its cure, and providing hope and healing to those who are affected by it.

While ovarian cancer remains one of the leading causes of cancer-related death among women in our country, scientists have made significant progress in understanding the factors associated with it. Women of all ages can develop this cancer, but studies have shown risk increases with age. Other factors associated with ovarian cancer include family history, obesity, use of fertility drugs, and a prior occurrence of certain cancers. Because the chances of surviving ovarian cancer are higher when it is diagnosed and treated in its early stages, women should talk to their doctors about risk factors and screenings for this disease.

America leads the world in medical research, and we are committed to continuing progress in research for prevention, better treatments, and a cure for ovarian cancer. This year, the National Institutes of Health will invest an estimated $106 million in ovarian cancer research, and the National Cancer Institute is sponsoring clinical trials to explore new ways to improve ovarian cancer treatment. The Department of Defense will also dedicate an estimated $10 million for its Ovarian Cancer Research Program, and the Centers for Disease Control and Prevention (CDC) will invest an estimated $5 million to ovarian cancer research. The CDC is additionally partnering with private organizations to sponsor ovarian cancer survivor courses for patients, as well as their friends and loved ones, following successful cancer treatment.

During National Ovarian Cancer Awareness Month, we honor the victims and survivors of this disease for their courage, hope, and perseverance, and we thank the families and friends who provide these individuals with comfort and care. Our Nation is grateful to medical professionals, researchers, and all those whose tireless efforts are making a positive difference in the lives of countless women in our country. By working together, we can continue to fight ovarian cancer and help more of our citizens defeat this devastating disease.

NOW, THEREFORE, I, GEORGE W. BUSH, President of the United States of America, by virtue of the authority vested in me by the Constitution and laws of the United States, do hereby proclaim September 2006 as National Ovarian Cancer Awareness Month. I call upon government officials, businesses, communities, health care professionals, educators, volunteers, and the people of the United States to continue our Nation's strong commitment to preventing and treating ovarian cancer.

IN WITNESS WHEREOF, I have hereunto set my hand this twenty-ninth day of August, in the year of our Lord two thousand six, and of the Independence of the United States of America the two hundred and thirty-first.

[FR Doc. 06-7431

Filed 8-31-06; 8:45 am]

Billing code 3195-01-P